DEPARTMENT OF VETERANS AFFAIRS

[OMB Control No. 2900-NEW]

Agency Information Collection Activity: Million Veteran Program Baseline and Lifestyle Surveys

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice.

DATES: Written comments and recommendations on the proposed collection of information should be received on or before October 23, 2017.

ADDRESSES: Submit written comments on the collection of information through Federal Docket Management System (FDMS) at www.Regulations.gov or to Brian McCarthy, Office of Regulatory and Administrative Affairs (10B4), Department of Veterans Affairs, 810 Vermont Avenue NW., Washington, DC 20420 or email to Brian.McCarthy4@va.gov. Please refer to “OMB Control No. 2900-NEW” in any correspondence. During the comment period, comments may be viewed online through FDMS.

FOR FURTHER INFORMATION CONTACT: Brian McCarthy at (202) 461-6345.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Code of Federal Regulations Title 38, Part 16.

Title:

Baseline Survey:

Lifestyle Survey:

OMB Control Number: 2900-NEW.

Type of Review: New Collection.

Abstract: Designed as a cohort study, MVP establishes an ongoing partnership with Veteran study participants who give their informed consent to share data with the researchers iteratively over time by authorizing access to electronic health record data, providing bio specimens for further analysis and/or providing self-reported data through personal logs, surveys, and fitness trackers. The information collected from Veterans using the MVP baseline and lifestyle survey instruments as part of the MVP cannot be obtained through other research methods, such as review of the Veterans' electronic health record data.

Affected Public: Individuals and households.

Estimated Annual Burden:

Baseline Survey: 333,334 hours.

Lifestyle Survey: 750,000 hours.

Estimated Average Burden per Respondent:

Baseline Survey: 20 minutes.

Lifestyle Survey: 45 minutes.

Frequency of Response: Annually.

Estimated Number of Respondents:

Baseline Survey: 100,000.

Lifestyle Survey: 100,000.

By direction of the Secretary.
Cynthia Harvey-Pryor,
Department Clearance Officer, Office of Quality and Compliance, Department of Veterans Affairs.

[FR Doc. 2017-17812 Filed 8-22-17; 8:45 am]

BILLING CODE 8320-01-P